DEPARTMENT OF COMMERCE

U.S. Census Bureau

Correction: Proposed Information Collection; Comment Request; Manufacturers' Unfilled Orders Survey

AGENCY: U.S. Census Bureau, Commerce.

ACTION: Correction.

SUMMARY: On October 16, 2012, a notice was published in the Federal Register (77 FR 63288) on the proposed information collection, Manufacturers' Unfilled Orders Survey.

Under the heading SUPPLEMENTARY INFORMATION, I. Abstract, the following information was omitted:

`We plan to add a box for “Change in Operational Status” to the MA-3000 for 2012. This change does not affect burden because the information asked is readily available by the respondents or not applicable to those companies without an operational status change.'

All other information in the notice is correct and remains unchanged.

Dated: October 25, 2012.
Gwellnar Banks,
Management Analyst, Office of the Chief Information Officer.

[FR Doc. 2012-26654 Filed 10-29-12; 8:45 am]

BILLING CODE 3510-09-P